SMALL BUSINESS ADMINISTRATION

[Declaration of Disaster [#3232]]

State of Kentucky

As a result of the President's major disaster declaration on January 10, 2000, I find that Crittenden, Daviess, and Webster Counties in the State of Kentucky constitute a disaster area due to damages caused by tornadoes, severe storms, torrential rains, and flash flooding that occurred on January 3-4, 2000. Applications for loans for physical damage as a result of this disaster may be filed until the close of business on March 10, 2000 and for economic injury until the close of business on October 10, 2000 at the address listed below or other locally announced locations: U.S. Small Business Administration, Disaster Area 2 Office, One Baltimore Place, Suite 300, Atlanta, GA 30308.

In addition, applications for economic injury loans from small businesses located in the following contiguous counties may be filed until the specified date at the above location: Caldwell, Hancock, Henderson, Hopkins, Livingston, Lyon, McLean, Ohio, and Union Counties in Kentucky; Hardin County, Illinois; and Spencer and Warrick Counties in Indiana.

The interest rates are:

For Physical Damage

Homeowners with credit available elsewhere—7.500%

Homeowners without credit available elsewhere—3.750%

Businesses with credit available elsewhere—8.000%

Businesses and non-profit organizations without credit available elsewhere—4.000%

Others (including non-profit organizations) with credit available elsewhere—6.750%

For Economic Injury

Businesses and small agricultural cooperatives without credit available elsewhere—4.000%

The number assigned to this disaster for physical damage is 323212, and for economic injury the numbers are 9G4100 for Kentucky, 9G4200 for Illinois, and 9G4300 for Indiana.

(Catalog of Federal Domestic Assistance Program Nos. 59002 and 59008)

Dated: January 14, 2000.
Herbert L. Mitchell,
Acting Associate Administrator for Disaster Assistance.

[FR Doc. 00-1804 Filed 1-25-00; 8:45 am]

BILLING CODE 8025-01-P